OFFICE OF PERSONNEL MANAGEMENT

5 CFR Chapters I and XXXV

45 CFR Chapter VIII

48 CFR Chapters 16, 17, and 21

Reducing Regulatory Burden; Retrospective Review Under E.O. 13563

AGENCY: Office of Personnel Management.

ACTION: Request for information.

SUMMARY: The Office of Personnel Management has posted on its public open government Web site a preliminary plan for retrospective review of its existing regulations. OPM prepared this plan in compliance with Executive Order 13563, Improving Regulation and Regulatory Review, issued January 18, 2011. The Executive Order outlines the President's plan to create a 21st-century regulatory system that is simpler and smarter and that protects the interests of the American people in a pragmatic and cost-effective way.

DATES: The deadline for submitting comments is July 1, 2011.

ADDRESSES: The public is encouraged to submit comments through OPM's public Web site (http://www.opm.gov/open).

FOR FURTHER INFORMATION CONTACT: Mauro Morales, Policy Counsel, Office of Personnel Management, 1900 E Street NW., Room 1342, Washington, DC 20415. Phone (202) 606-1700 or e-mail at Mauro.Morales@opm.gov.

SUPPLEMENTARY INFORMATION: OPM's plan sets forth a process for obtaining input from the public on an annual basis concerning the regulations that OPM should review. The plan also identifies the regulations that OPM plans on examining this year.

OPM is now seeking public comment on its plan. Any comments that are submitted will also be viewable by the public. OPM will review the comments and post the final plan to its public open government Web site.

U.S. Office of Personnel Management.
John Berry,
Director.

[FR Doc. 2011-13699 Filed 6-1-11; 8:45 am]

BILLING CODE 6325-48-P